DEPARTMENT OF THE INTERIOR

Fish and Wildlife Service

[FWS-R3-R-2010-N117; 30136-1265-0000-S3]

Crane Meadows National Wildlife Refuge, Morrison County, MN

AGENCY: Fish and Wildlife Service, Interior.

ACTION: Notice of availability: Draft comprehensive conservation plan and environmental assessment; request for comments.

SUMMARY: We, the U.S. Fish and Wildlife Service (Service), announce the availability of a draft comprehensive conservation plan (CCP) and draft environmental assessment (EA) for Crane Meadows National Wildlife Refuge (NWR) for public review and comment. In this draft CCP/EA we describe how we propose to manage the refuge for the next 15 years.

DATES: To ensure consideration, we must receive your written comments by August 6, 2010. An open house style meeting will be held during the comment period to receive comments and provide information on the draft plan. Special mailings, newspaper articles, internet postings, and other media announcements will inform people of the meeting and opportunities for written comments.

ADDRESSES: Comments or requests for more information can be sent by any of the following methods. You may also drop off comments in person at Crane Meadows NWR.

1. Agency Web site: View or download a copy of the document and comment at http://www.fws.gov/midwest/planning/CraneMeadows/index.html.

2. E-mail: r3planning@fws.gov. Include “Crane Meadows Draft CCP/EA” in the subject line of the message.

3. Fax: 763-389-3493.

4. Mail: Attention: Refuge Manager, Sherburne-Crane Meadows National Wildlife Refuge Complex, 17076 293 Avenue, Zimmerman, Minnesota 55398.

FOR FURTHER INFORMATION CONTACT: Anne Sittauer, 763-389-3323.

SUPPLEMENTARY INFORMATION:

Introduction

With this notice, we continue the CCP process for Crane Meadows NWR, which we began by publishing a notice of intent on (73 FR 76677-76678, December 17, 2008). For more information about the planning process, see that notice.

Crane Meadows NWR was established in 1992 for `* * * the conservation of the wetlands of the Nation * * *' under the Emergency Wetland Resources Act of 1986. The Service owns and manages approximately 1,800 acres of 13,540 acres proposed for acquisition. The unique wetland complex contains rare and declining habitat types, important archaeological resources, a diversity of local and migratory species, and an abundance of recreational opportunities.

Background

The CCP Process

The National Wildlife Refuge System Administration Act of 1966, as amended by the National Wildlife Refuge System Improvement Act of 1997 (16 U.S.C. 668dd-668ee), requires us to develop a comprehensive conservation plan for each national wildlife refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other stakeholders and partners, and the public identified several priority issues related to habitat, land acquisition, water resources, wildlife, visitor services, archaeological resources, and support for the Refuge. To address these issues, we developed and evaluated the following alternatives during the planning process.

Alternative A: Current Management Direction (No Action)

The current management direction of Crane Meadows NWR would be maintained under this alternative. Required by NEPA, this is referred to as the “No Action” alternative. Land acquisition is minimal, conservation work on private lands is extensive, and both occur opportunistically. As land is acquired quality habitats are maintained in their current state, degraded habitats are improved or restored, and all habitat types are considered to have relatively equal priority. There is an active prescribed fire program, little involvement with local water resources, minimal active wildlife management, and monitoring efforts follow existing, broader state and federal efforts. Visitor use is concentrated on the Headquarters Unit, and consists of wildlife observation, photography, hiking, cross-country skiing, and snowshoeing as seasons and trail conditions allow. No hunting or fishing is permitted.

Alternative B: Habitat Restoration to Pre-Settlement Benchmark Conditions and Increased Provision of Visitors Services (Preferred Alternative)

Alternative B portrays a long-term vision for habitat restoration to near-historic benchmark conditions and increases recreation opportunities for visitors. Historic ecological data is used to set habitat restoration priorities favoring savanna and wetland habitats over existing prairies and woodlands. This alternative includes active participation in monitoring and improving local water resources, a well-developed prescribed fire plan, increased land acquisition efforts in high priority areas, additional inventories and monitoring of plant and animal species, recreational opportunities in a greater number of locations, and new visitor uses including hunting.

Alternative C: High Involvement in Watershed Improvement

The third alternative, Alternative C, retains many of the concepts and objectives from alternative B, but increases the emphasis given to water resources both on-Refuge and in the watershed upstream of the wetland complex. Alternative C restores additional wetland and upland acres up-watershed of the Refuge, expands water resource monitoring and improvement activities throughout the east half of the Platte-Spunk watershed, targets a limited quantity of additional lands with critical water resource value adjacent to the existing Refuge boundary for acquisition, increases and directs private lands work to priority aquatic and riparian areas upstream of the Refuge, emphasizes fishing as a primary recreation opportunity, directs additional education and interpretation efforts to water resource topics, and highlights partnerships, outreach opportunities, and volunteerism that occur within, or directly affect the Refuge's watershed.

Public Meeting

We will give the public an opportunity to provide input at a public meeting. You can obtain the schedule from the address or Web site listed in this notice (see addresses). You may also submit comments anytime during the comment period.

Public Availability of Comments

Before including your address, phone number, e-mail address, or other personal identifying information in your comment, you should be aware that your entire comment—including your personal identifying information—may be made publicly available at anytime. While you can ask us in your comment to withhold your personal identifying information from public review, we cannot guarantee that we will be able to do so.

Dated: June 18, 2010.
Lynn M. Lewis,
Acting Regional Director, U.S. Fish and Wildlife Service, Fort Snelling, Minnesota.

[FR Doc. 2010-16426 Filed 7-6-10; 8:45 am]

BILLING CODE 4310-55-P